DEPARTMENT OF TRANSPORTATION

Federal Aviation Administration

Notice of Intent To Rule on Request To Release Airport Property at the Gainesville Municipal Airport, Gainesville, TX

AGENCY: Federal Aviation Administration (FAA), DOT.

ACTION: Notice of request to release airport property.

SUMMARY: The FAA proposes to rule and invite public comment on the release of land at the Gainesville Municipal Airport under the provisions of Section 125 of the Wendell H. Ford Aviation Investment Reform Act for the 21st Century (AIR 21).

DATES: Comments must be received on or before March 9, 2001.

ADDRESSES: Comments on this application may be mailed or delivered to the FAA at the following address: Mr. Mike Nicely, Manager, Federal Aviation Administration, Southwest Region, Airports Division, Texas Airports Development Office, ASW-650, Fort Worth, Texas 761-0650.

In addition, one copy of any comments submitted to the FAA must be mailed or delivered to Mr. Mike Land, City Manager, at the following address: Mr. Mike Land, 200 South Rusk, Gainesville, Texas 76240.

FOR FURTHER INFORMATION CONTACT: Ms. Mimchi Hoang, Program Manager, Federal Aviation Administration, Texas Airports Development Office, ASW-650, 2601 Meacham Boulevard, Fort Worth, Texas 76193-0650.

The request to release property may be viewed in person at this same location.

SUPPLEMENTARY INFORMATION: The FAA invites public comment on the request to release property at the Gainesville Municipal Airport under the provisions of the AIR 21.

On February 2, 2001, the FAA determined that the request to release property at Gainesville Municipal Airport, submitted by the City, met the procedural requirements of the Federal Aviation Regulations, Part 155. The FAA may approve the request, in whole or in part, no later than April 2, 2001.

The following is a brief overview of the request:

The City of Gainesville requests the release of 39.45 acres of non-aeronautical airport property. The land was conveyed to the City of Gainesville by the Federal Government in a deed dated August 4, 1948 and referenced in Vol. 331, page 29 of Cooke County Deed Records. The release of the property will allow funding for maintenance, operation and development of the airport.

The estimated $217,000 sale proceeds will be deposited into the airport enterprise fund and expended within 3 years from the date of the sale.

Any person may inspect the request in person at the FAA office listed above under FOR FURTHER INFORMATION CONTACT.

In addition, any person may, upon request, inspect the application, notice and other documents relevant to the application in person at the City of Gainesville.

Issued in Fort Worth, Texas on February 2, 2001.
Naomi L. Saunders,
Manager, Airports Division.

[FR Doc. 01-3660 Filed 2-12-01; 8:45 am]

BILLING CODE 4910-13-M